DEPARTMENT OF HOUSING AND URBAN DEVELOPMENT

[Docket No. FR-6460-N-01]

Notice of Regulatory Waiver Requests Granted for the First Quarter of Calendar Year 2024

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2024 and ending on March 31, 2024.

FOR FURTHER INFORMATION CONTACT: For general information about this notice, contact Aaron Santa Anna, Associate General Counsel for Legislation and Regulations, Department of Housing and Urban Development, 451 Seventh Street SW, Room 10276, Washington, DC 20410-0500, telephone 202-708-3055 (this is not a toll-free number). HUD welcomes and is prepared to receive calls from individuals who are deaf or hard of hearing, as well as individuals with speech or communication disabilities. To learn more about how to make an accessible telephone call, please visit: https://www.fcc.gov/consumers/guides/telecommunications-relay-service-trs.

For information concerning a particular waiver that was granted and for which public notice is provided in this document, contact the person whose name and address follow the description of the waiver granted in the accompanying list of waivers that have been granted in the first quarter of calendar year 2024.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2024 through March 31, 2024. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2024) before the next report is published (the second quarter of calendar year 2024), HUD will include any additional waivers granted for the first quarter in the next report.

Accordingly, information about approved waiver requests pertaining to HUD regulations is provided in the Appendix that follows this notice.

Benjamin B. Klubes,
Principal Deputy General Counsel.

APPENDIX

Listing of Waivers of Regulatory Requirements Granted by Offices of the Department of Housing and Urban Development January 1, 2024 through March 31, 2024

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 92.252(d)(1).

Project/Activity: Los Angeles, California, requested a waiver of 24 CFR 92.252(d)(1) to allow the use of the utility allowance established by the local public housing agency (PHA) for Beswick Senior Apartments, a HOME-assisted project.

Nature of Requirement: The regulation at 24 CFR 92.252(d)(1) requires participating jurisdictions to establish maximum monthly allowances for utilities and services (excluding telephone) and update allowances annually. However, participating jurisdictions are not permitted to use the utility allowance established by the local public housing authority for HOME-assisted rental projects for which HOME funds were committed on or after August 23, 2013.

Granted by: Marion M. McFadden, Principal Deputy Assistant Secretary for Community Planning and Development.

Date Granted: January 30, 2024.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(1).

Project/Activity: Sunnyvale and Santa Clara County, California, requested waivers of 24 CFR 92.252(d)(1) to allow the use of the utility allowance established by the local public housing agency (PHA) for the Block 15 project, designated as IDIS activities #624 (Sunnyvale) and #1859 (Santa Clara County).

Nature of Requirement: The regulation at 24 CFR 92.252(d)(1) requires participating jurisdictions to establish maximum monthly allowances for utilities and services (excluding telephone) and update allowances annually. However, participating jurisdictions are not permitted to use the utility allowance established by the local public housing authority for HOME-assisted rental projects for which HOME funds were committed on or after August 23, 2013.

Granted by: Marion M. McFadden, Principal Deputy Assistant Secretary for Community Planning and Development.

Date Granted: March 8, 2024.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(1).

Project/Activity: Clark County, Nevada, requested a waiver of 24 CFR 92.252(d)(1) to allow the use of the utility allowance established by the local public housing agency (PHA) for the Southern Pines 2 project.

Nature of Requirement: The regulation at 24 CFR 92.252(d)(1) requires participating jurisdictions to establish maximum monthly allowances for utilities and services (excluding telephone) and update allowances annually. However, participating jurisdictions are not permitted to use the utility allowance established by the local public housing authority for HOME-assisted rental projects for which HOME funds were committed on or after August 23, 2013.

Granted by: Marion M. McFadden, Principal Deputy Assistant Secretary for Community Planning and Development.

Date Granted: March 27, 2024.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 93.400(d)(2).

Project/Activity: The State of Hawaii requested a waiver of 24 CFR 93.400(d)(2) to extend the expenditure deadline for its Fiscal Year 2018 grant funds which are currently committed to the Kaloko Heights project.

Nature of Requirement: The regulation at 24 CFR 93.400(d)(2) requires HUD to reduce or recapture any funds in the grantee's HTF Treasury account that are not expended within five years after HUD executed the grantee's HTF grant agreement.

Granted by: Marion M. McFadden, Principal Deputy Assistant Secretary for Community Planning and Development.

Date Granted: February 23, 2024.

Reason Waived: The Department determined that a waiver of the State's FY 2018 HTF expenditure requirement is justified based on construction delays. This waiver will ensure that $1,350,000 of HTF funds are not deobligated and that the State has sufficient resources to complete the construction of the Kaloko Heights project, which will provide needed affordable rental housing units.

Contact: Virginia Sardone, Director, Office of Affordable Housing Programs, Office of Community Planning and Development, Department of Housing and Urban Development, 451 Seventh Street SW, Room 7160, Washington, DC 20410, telephone (202) 708-2684.

• Regulation: 24 CFR 93.400(d)(2).

Project/Activity: The State of Texas requested a waiver of 24 CFR 93.400(d)(2) to extend the expenditure deadline for its Fiscal Year 2017 grant funds which are committed to the Heritage Heights project.

Nature of Requirement: The regulation at 24 CFR 93.400(d)(2) requires HUD to reduce or recapture any funds in the grantee's HTF Treasury account that are not expended within five years after HUD executed the grantee's HTF grant agreement.

Granted by: Marion M. McFadden, Principal Deputy Assistant Secretary for Community Planning and Development.

Date Granted: March 8, 2024.

Reason Waived: The Department determined that a waiver of the State's FY 2017 expenditure requirement is justified because unanticipated delays in project construction prevented the State from expending all of the HTF funds committed to the project before the five-year expenditure deadline. This waiver will enable the State to retain HTF funds committed to the Heritage Heights project and prevent the potential loss of affordable units.

Contact: Virginia Sardone, Director, Office of Affordable Housing Programs, Office of Community Planning and Development, Department of Housing and Urban Development, 451 Seventh Street SW, Room 7160, Washington, DC 20410, telephone (202) 708-2684.

• Regulation: 24 CFR 92.252(d)(1).

Project/Activity: Los Angeles, California, requested a waiver of 24 CFR 92.252(d)(1) to allow the use of the utility allowance established by the local public housing agency (PHA) for Beswick Senior Apartments, a HOME-assisted project.

Nature of Requirement: The regulation at 24 CFR 92.252(d)(1) requires participating jurisdictions to establish maximum monthly allowances for utilities and services (excluding telephone) and update allowances annually. However, participating jurisdictions are not permitted to use the utility allowance established by the local public housing authority for HOME-assisted rental projects for which HOME funds were committed on or after August 23, 2013.

Granted by: Marion M. McFadden, Principal Deputy Assistant Secretary for Community Planning and Development.

Date Granted: January 30, 2024.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(1).

Project/Activity: Sunnyvale and Santa Clara County, California, requested waivers of 24 CFR 92.252(d)(1) to allow the use of the utility allowance established by the local public housing agency (PHA) for the Block 15 project, designated as IDIS activities #624 (Sunnyvale) and #1859 (Santa Clara County).

Nature of Requirement: The regulation at 24 CFR 92.252(d)(1) requires participating jurisdictions to establish maximum monthly allowances for utilities and services (excluding telephone) and update allowances annually. However, participating jurisdictions are not permitted to use the utility allowance established by the local public housing authority for HOME-assisted rental projects for which HOME funds were committed on or after August 23, 2013.

Granted by: Marion M. McFadden, Principal Deputy Assistant Secretary for Community Planning and Development.

Date Granted: March 8, 2024.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(1).

Project/Activity: Clark County, Nevada, requested a waiver of 24 CFR 92.252(d)(1) to allow the use of the utility allowance established by the local public housing agency (PHA) for the Southern Pines 2 project.

Nature of Requirement: The regulation at 24 CFR 92.252(d)(1) requires participating jurisdictions to establish maximum monthly allowances for utilities and services (excluding telephone) and update allowances annually. However, participating jurisdictions are not permitted to use the utility allowance established by the local public housing authority for HOME-assisted rental projects for which HOME funds were committed on or after August 23, 2013.

Granted by: Marion M. McFadden, Principal Deputy Assistant Secretary for Community Planning and Development.

Date Granted: March 27, 2024.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 93.400(d)(2).

Project/Activity: The State of Hawaii requested a waiver of 24 CFR 93.400(d)(2) to extend the expenditure deadline for its Fiscal Year 2018 grant funds which are currently committed to the Kaloko Heights project.

Nature of Requirement: The regulation at 24 CFR 93.400(d)(2) requires HUD to reduce or recapture any funds in the grantee's HTF Treasury account that are not expended within five years after HUD executed the grantee's HTF grant agreement.

Granted by: Marion M. McFadden, Principal Deputy Assistant Secretary for Community Planning and Development.

Date Granted: February 23, 2024.

Reason Waived: The Department determined that a waiver of the State's FY 2018 HTF expenditure requirement is justified based on construction delays. This waiver will ensure that $1,350,000 of HTF funds are not deobligated and that the State has sufficient resources to complete the construction of the Kaloko Heights project, which will provide needed affordable rental housing units.

Contact: Virginia Sardone, Director, Office of Affordable Housing Programs, Office of Community Planning and Development, Department of Housing and Urban Development, 451 Seventh Street SW, Room 7160, Washington, DC 20410, telephone (202) 708-2684.

• Regulation: 24 CFR 93.400(d)(2).

Project/Activity: The State of Texas requested a waiver of 24 CFR 93.400(d)(2) to extend the expenditure deadline for its Fiscal Year 2017 grant funds which are committed to the Heritage Heights project.

Nature of Requirement: The regulation at 24 CFR 93.400(d)(2) requires HUD to reduce or recapture any funds in the grantee's HTF Treasury account that are not expended within five years after HUD executed the grantee's HTF grant agreement.

Granted by: Marion M. McFadden, Principal Deputy Assistant Secretary for Community Planning and Development.

Date Granted: March 8, 2024.

Reason Waived: The Department determined that a waiver of the State's FY 2017 expenditure requirement is justified because unanticipated delays in project construction prevented the State from expending all of the HTF funds committed to the project before the five-year expenditure deadline. This waiver will enable the State to retain HTF funds committed to the Heritage Heights project and prevent the potential loss of affordable units.

Contact: Virginia Sardone, Director, Office of Affordable Housing Programs, Office of Community Planning and Development, Department of Housing and Urban Development, 451 Seventh Street SW, Room 7160, Washington, DC 20410, telephone (202) 708-2684.

• Regulation: 24 CFR 576.106(d)(1).

Project/Activity: HUD granted a waiver of 24 CFR 576.106(d)(1) to the New York State Office of Temporary and Disability Assistance (OTDA) to allow its subrecipients use Fiscal Year (FY) 2022 and 2023 Emergency Solutions Grants (ESG) Program Rapid Re-housing (RRH) and Homelessness Prevention (HP) funds for housing units with rents that exceed the HUD-established Fair Market Rent (FMR) requirements in the following areas: Albany County, Cattaraugus County, Chautauqua County, Columbia County, Delaware County, Dutchess County, Erie County, Essex County, Franklin County, Fulton County, Greene County, Kings County, Lewis County, Madison County, Monroe County, Montgomery County, New York City, Onondaga County, Ontario County, Orange County, Putnam County, Rensselaer County, Saratoga County, Schuyler County, Seneca County, St. Lawrence County, Sullivan County, Tompkins County, Ulster County, Washington County, Wayne County, Westchester County and Yates County. OTDA and its subrecipients must still comply with the rent reasonableness requirements in 24 CFR 576.106(d)(1). Subject to funding availability and unless otherwise provided by HUD, the State may also apply this waiver to further ESG grants under the same conditions that are stated above for the State of New York's FY 2022 (E22DC360001), and FY 2023 (E23DC360001) grants.

Nature of Requirement: 24 CFR 576.106(d)(1) provides that rental assistance cannot be provided unless the total rent is equal to or less than the FMR established by HUD, as provided under 24 CFR part 888, and complies with HUD's standard of rent reasonableness, as established under 24 CFR 982.507.

Granted By: Marion M. McFadden, Principal Deputy Assistant Secretary for Community Planning and Development.

Date Granted: January 31, 2024.

Reason Waived: Because ESG rental assistance is time-limited, and program participants must find other rental assistance or pay the full rent to stay housed at the program's end, HUD's FMR-based restriction in 24 CFR 576.106(d)(t) serves dually as safeguard and benchmark for successful housing placements. In some cases, though, allowing rental assistance only in units that rent at or below HUD's FMR can impede rather than promote the efficient use of ESG assistance. In this case, HUD has received information showing the current FMR is not an accurate reflection of the rental market in affected areas identified by the recipient. The state reports that average rents are consistently higher than FMR limits for the affected areas. OTDA provided data showing that, on average, communities report actual rents 28.7 percent higher than FY 2023 FMRs. Average rents as of November 2023 are still 21 percent higher than current FY 2024 FMRs. Average rent amounts for one-bedroom units range from 1.0 percent greater than FMR in Putnam County, NY to 5 1 percent greater than FMR in Onondaga County, NY. Average rent amounts for two-bedroom units in the affected areas range from 1 .1 percent greater than FMR in St. Lawrence County, NY to 91.2 percent greater than FMR in Onondaga County, NY. Because renting at any amount over FMR disqualifies a unit as an eligible option for ESG assistance, these consistently higher-than-FMR average rent amounts, coupled with a tight rental market, continue to hamper the network of providers in their ability to provide permanent housing solutions to households in crisis. In circumstances like these, the costs of the FMR-based restriction seem to outweigh its benefits due to the challenge of finding units that meet FMR requirements.

Contact: Norm Suchar, Director, Office of Special Needs Assistance Programs, Office of Community Planning and Development, Department of Housing and Urban Development, 451 Seventh Street SW, Room 7262, Washington, DC 20410, telephone number (202) 708-4300.

II. Regulatory Waivers Granted by the Office of Housing—Federal Housing Administration (FHA)

For further information about the following regulatory waivers, please see the name of the contact person that immediately follows the description of the waiver granted.

• Regulation: 24 CFR 200.24.

Project/Activity: Blanket Partial Waiver for Cooperative Manufactured Housing Park Projects insured under Section 223(f) Program.

Nature of Requirement: Currently this regulation does not allow the purchase of cooperative manufactured housing parks. HUD's regulation limits Section 223(f) to refinancing the existing debt of an existing cooperative projects.

Granted By: Julia R. Gordon, Assistant Secretary for Housing and Federal Housing Commissioner.

Date Granted: March 1, 2024.

Reason Waived: Granting the regulation waiver will permit acquisition of cooperative manufactured housing parks, which will increase the options for existing residents to buy their manufactured home community when it comes up for sale. Currently the financing options in the industry are limited for purchasing cooperative manufactured home parks. Because of the affordable housing crisis, now is a crucial time to support a secondary market for resident owned community financing.

Contact: Willie Fobbs, III, Director, Multifamily Production, Office of Housing, Department of Housing and Urban Development, 451 Seventh Street SW, Room 6138, Washington, DC 20410, telephone (202) 402-6257.

• Regulation: 24 CFR 200.54(b).

Project/Activity: Waldorf Technology Park, Baltimore, Maryland.

Nature of Requirement: The regulation states that funds provided by the borrower must be disbursed in full for project work before the disbursement of any mortgage proceeds.

Granted By: Julia R. Gordon, Assistant Secretary for Housing and Federal Housing Commissioner.

Date Granted: January 31, 2024.

Reason Waived: This partial waiver grants the timely issuance of securities guaranteed by the Government National Mortgage Association (GNMA) and is limited to the Waldorf Technology Park project to allow lenders to securitize the initial draw (advance of mortgage proceeds). The initial draw is made contemporaneously with borrower equity funding to establish the mortgage-backed security and fulfill investor trade agreements. The initial draw will not exceed half percent (0.5%) of the initially endorsed loan amount. In practice, this initial draw is typically $25,000.

Contact: Willie Fobbs, III, Director, Multifamily Production, Office of Housing, Department of Housing and Urban Development, 451 Seventh Street SW, Room 6138, Washington, DC 20410, telephone (202) 402-6257.

• Regulation: 24 CFR 290.30 (a).

Project/Activity: The owner of New Orchard Hill Estates, located in Oxford, Massachusetts, requests HUD approval of the note sale of two HUD-held mortgages secured by the project to Massachusetts Housing Finance Agency (MassHousing) on a non-competitive, negotiated basis.

Nature of Requirement: HUD is required to sell HUD-held Notes on a competitive basis pursuant to 24 CFR 290.30(a). However, as an exception to this requirement, 24 CFR 290.31(a)(2), permits “negotiated” sales to state of local governments for current mortgages securing subsidized projects, provided that loans are sold with FHA insurance.

Granted By: Julia R. Gordon, Assistant Secretary for Housing and Federal Housing Commissioner.

Date Granted: March 28, 2024, subject to OMB approval.

Reason Waived: To facilitate the sale of the two HUD-held Notes a waiver of 24 CFR 290.30(a), which requires the HUD-held multifamily mortgages to be sold competitively, is needed. This waiver will allow HUD to accept the non-competitive bid made by MassHousing and the sale of the notes will remove liens that have accrued to over $27 million dollars combined. Further, granting this waiver facilitates the preservation of this affordable housing. The waiver of 24 CFR 290.30(a) does not violate any statutory requirements, and the review findings constitute good cause for the waiver, as required by 24 CFR 5.110.

Contact: Thomas R. Davis, Director of Office of Recapitalization, Office of Housing, Department of Housing and Urban Development, 451 Seventh Street SW, Room 6228, Washington, DC 20410, telephone (202) 402-7549.

III. Regulatory Waivers Granted by the Office of Public and Indian Housing

For further information about the following regulatory waivers, please see the name of the contact person that immediately follows the description of the waiver granted.

• Regulation: 24 CFR 982.503(c)(2), 24 CFR 982.503(c)(3).

Nature of Requirement: 24 CFR 982.503(c)(2) defines payment standards between 110-120 percent of fair market rent, while 24 CFR 982.503(c)(3) defines payment standards above 120 percent of fair market rent.

Project/Activity: Metropolitan Development and Housing Agency (MDHA).

Granted By: Richard Monocchio, Principal Deputy Assistant Secretary for Public and Indian Housing.

Date Granted: December 28, 2023.

Reason Waived: The PHA has demonstrated i met all the regulatory requirements at 24 CFR 982.503(c) for approval of exception payment standards between 110 and 120 percent of the FMR and for approval of exception payment standards over 120 percent. The PHA may use the approved exception payment standards contained in the waiver request in place of the fiscal year (FY) 24 published FMRs. If MDHA wants to continue with exception payment standard requests for HUD's consideration for FY25 FMRs, the PHA must submit a new exception payment standard request.

Contact: Brendan Goodwin, Senior Housing Program Specialist, Office of Public and Indian Housing, Department of Housing and Urban Development, 10 Causeway St., #3, Boston, MA 02222, telephone (202) 402-4398; brendan.c.goodwin@hud.gov.

• Regulation: 24 CFR 5.801(d)(1) and 24 CFR 902.62(a)(3).

Nature of Requirement: 24 CFR 5.801(d)(1) requires agencies are to submit their audited financial statements no later than nine months after their FYE; 24 CFR 902.62(a)(3) dictates that agencies receive an LPF score of zero should they fail to meet the deadline described in 24 CFR 5.801(d)(1).

Project/Activity: West Palm Beach Housing Authority (WPBHA).

Granted By: Richard Monocchio, Principal Deputy Assistant Secretary for Public and Indian Housing.

Date Granted: January 31, 2024.

Reason Waived: WPBHA indicates there are unforeseen circumstances affecting a timely submission of the FYE March 31, 2023, audited financial information to the Department of Housing and Urban Development (HUD). WPBHA's Finance Director was diagnosed with a serious health condition in August 2023. As a result of this unforeseen circumstance and the critical role of the Finance Director in the audit process, WPBHA requests an additional 30 days. HUD found this to be good cause and waived the aforementioned regulations.

Contact: Lara Philbert, Assessment Manager, Integrated Assessment Team, Office of Public and Indian Housing, Department of Housing and Urban Development, 451 Seventh Street SW, Washington, DC 20410, telephone (202) 475-8930; lara.philbert@hud.gov.

• Regulation: 24 CFR 983.51(b)(1).

Nature of Requirement: 24 CFR 983.51(b)(1) pertains to PHAs selecting projects for project-based voucher (PBV) assistance via competitive process or based on a previous competition.

Project/Activity: Housing Authority of the City of Texarkana/(D(B)(A) Village Communities of Texarkana, Texas (VCTT).

Granted By: Richard Monocchio, Principal Deputy Assistant Secretary for Public and Indian Housing.

Date Granted: February 6, 2023.

Reason Waived: Without approval of this waiver request, the project in question will not be able to close, putting this unique and much-needed affordable housing resource at risk. Allowing VCTT to select the project in accordance with the requested waiver ensures that the transaction to preserve the property as an affordable housing resource in the community will be completed and prevents the displacement of the 20 families. HUD found this to be good cause and waived the aforementioned regulations.

Contact: Nathaniel Johnson, Senior Housing Program Specialist, Office of Public and Indian Housing, Department of Housing and Urban Development, 451 Seventh Street SW, Washington, DC 20410, telephone (202) 402-5156; Nathaniel.Johnson@hud.gov.

• Regulation: 24 CFR 983.202(a) and 983.3(b).

Nature of Requirement: 24 CFR 983.202(a) states that a Public Housing Agency (PHA) must enter a single Housing Assistance Payments (HAP) contract with the project owner. Except for a single-family scattered site project, a HAP contract shall cover a single project. If multiple projects exist, each project shall be covered by a separate HAP contract. The HAP contract must be in such a form as may be prescribed by HUD. 24 CFR 983.3(b) defines such a project as a single building, multiple contiguous buildings, or multiple buildings on contiguous parcels of land. Contiguous in this definition includes “adjacent to,” as well as touching along a boundary or a point.

Project/Activity: New York City Housing Authority (NYCHA).

Granted By: Richard Monocchio, Principal Deputy Assistant Secretary for Public and Indian Housing.

Date Granted: March 18, 2024.

Reason Waived: NYCHA has provided the following justifications: The NYCHA PACT program seeks to identify resources and opportunities to make major improvements to projects, while preserving long-term affordability and maintaining strong resident rights. The combination of subsidy conversion types is necessary to produce the rental revenue necessary to adequately address the preservation required by the project's capital needs and to maximize the number of units and residents who will benefit from the Redevelopment Plan. NYCHA staff must perform separate record keeping and administrative functions at the execution of the HAP contract and during the rehabilitation of the units, as well as ongoing monthly and annual administration. NYCHA's Leased Housing Department estimates that each individual HAP contract requires approximately 27 staff hours to administer during construction to convert units to PBV and manage RAD rental rehab payments, re-occupancies, and temporary moves. Grouping the buildings and reducing the number of HAP contracts will allow NYCHA to realize significant operational efficiencies, reduce administrative burden, and overcome potential confusion from administrative complexity. Since Manhattan's densely populated residential neighborhoods, these non-contiguous buildings are physically very close and have, since acquisition by NYCHA, been operated as a single project. HUD found this to be good cause and waived the aforementioned regulations.

Contact: Jerone Anderson, Recapitalization Transaction Specialist, Office of Public and Indian Housing, Department of Housing and Urban Development, 451 Seventh Street SW, Washington DC 20410, telephone (202) 402-6709; Jerone.l.anderson@hud.gov.

• Regulation: 24 CFR 983.302(b)(2), 24 CFR 983.302(e)(2).

Nature of Requirement: 24 CFR 983.302(b)(2) requires that an owner of a property subject to a project-based voucher (PBV) Housing Assistance Payments (HAP) contract must request by written notice to the public housing agency (PHA) an increase in the rent at the annual anniversary of the HAP contract. 24 CFR 983.302(e)(2) states that an adjusted rent to owner amount applies for the period of 12 calendar months from the annual anniversary of the HAP contract.

Project/Activity: Dane County Housing Authority's (DCHA).

Granted By: Richard Monocchio, Principal Deputy Assistant Secretary for Public and Indian Housing.

Date Granted: January 12, 2024.

Reason Waived: The DCHA only requested for 24 CFR 983.302(b)(2) to be waived but HUD determined 24 CFR 983.302(e)(2) would need to be waived as well to address DHCA's needs and request. The DHEA asserted there is good cause for the requested waiver since there is a risk that these two properties may not be preserved as affordable housing unless the financial circumstances of the properties improve and stabilize. If these properties are not preserved as affordable housing, it would create an unreasonable burden on the many formerly homeless families currently living in the properties. The DCHA believes many of the families would struggle to find replacement housing. HUD found this to be good cause and waived the aforementioned regulations.

Contact: Melissa West, Senior Housing Program Specialist, Office of Public and Indian Housing, Department of Housing and Urban Development, 1670 Broadway Denver, Colorado 80202, telephone (303) 672-5352; melissa.west@hud.gov.

• Regulation: 24 CFR 982.617(b) and 982.617(c).

Nature of Requirement: 24 CFR 982.617(b) provides for using a pro-rata formula when determining rent reasonableness in shared housing units. 24 CFR 982.617(c) establishes payment standards for all participants receiving assistance under the Housing Choice Voucher program.

Project/Activity: Los Angeles County Development Authority (LACDA).

Granted By: Richard Monocchio, Principal Deputy Assistant Secretary for Public and Indian Housing.

Date Granted: February 6, 2024.

Reason Waived: LACDA has demonstrated that the rental market for smaller-sized units is especially difficult in the County of Los Angeles. While the good cause is primarily based on the need to address the homelessness crisis in the Los Angeles area, this waiver is applicable to all HCV families, not just persons experiencing homelessness. Expanding the shared housing option for the program will increase available housing options for smaller-size voucher households, reducing some voucher holder demand for the very limited supply of efficiencies and one-bedroom units. This will provide persons experiencing homelessness with a higher overall likelihood of housing search success, whether through the shared housing option or a regular unit. HUD found this to be good cause and waived the aforementioned regulations.

Contact: Brendan Goodwin, Senior Housing Program Specialist, Office of Public and Indian Housing, Department of Housing and Urban Development, 10 Causeway St #3, Boston, MA 02222, telephone (202) 402-4398; brendan.c.goodwin@hud.gov.

• Regulation: 24 CFR 982.617(b) and 982.617(c).

Nature of Requirement: 24 CFR 982.617(b) provides for using a pro-rata formula when determining rent reasonableness in shared housing units. 24 CFR 982.617(c) establishes payment standards for all participants receiving assistance under the Housing Choice Voucher program.

Project/Activity: Housing Authority of the City of Los Angeles (HACLA).

Granted By: Richard Monocchio, Principal Deputy Assistant Secretary for Public and Indian Housing.

Date Granted: February 6, 2024.

Reason Waived: HACLA has demonstrated that the rental market for smaller-sized units is especially difficult in Los Angeles. While the good cause is primarily based on the need to address the homelessness crisis in Los Angeles, this waiver is applicable to all HCV families, not just persons experiencing homelessness. Expanding the shared housing option for the program will increase available housing options for smaller size voucher households, reducing some voucher holder demand for the very limited supply of efficiencies and one-bedroom units. This will provide persons experiencing homelessness with a higher overall likelihood of housing search success, whether through the shared housing option or a regular unit. HUD finds this to be good cause and hereby waives the aforementioned regulations.

Contact: Brendan Goodwin, Senior Housing Program Specialist, Office of Public and Indian Housing, Department of Housing and Urban Development, 10 Causeway St #3, Boston, MA 02222, telephone (202) 402-4398; brendan.c.goodwin@hud.gov.

• Regulation: 24 CFR 983.51(b)(1).

Nature of Requirement: 24 CFR 983.51(b)(1) pertains to PHAs selecting projects for project-based voucher (PBV) assistance via competitive process or based on a previous competition.

Project/Activity: Tatum Housing Authority (THA).

Granted By: Richard Monocchio, Principal Deputy Assistant Secretary for Public and Indian Housing.

Date Granted: February 16, 2024.

Reason Waived: The THA stated that the requested waiver is critical to preserving affordable housing in Gladewater, Texas, which has limited affordable housing. Without approval of this waiver request, the project will not be able to close, putting this unique and much-needed affordable housing resource at risk. Allowing the THA to select the project in accordance with the 2 requested waiver ensures that the property is preserved as an affordable housing resource in the community. HUD found this to be good cause and waived the aforementioned regulation.

Contact: Nathaniel Johnson, Senior Housing Program Specialist, Housing Voucher Management and Operations Division, Office of Public and Indian Housing, Department of Housing and Urban Development, 451 Seventh Street SW, Washington, DC 20410, telephone (202) 402-5156; Nathaniel.Johnson@hud.gov.

Extended Streamlined Waivers

• Regulation: 24 CFR 982.505(c)(4) Increase in Payment Standard During Housing Assistance Payment (HAP) Contract Term.

Project/Activity: Notice PIH 2023-29 Extension of Certain Regulatory Waivers for the Housing Choice Voucher (including Mainstream) Program and Streamlined Review Process.

Nature of Requirement: If the payment standard amount is increased during the term of the HAP contract, the increased payment standard amount shall be used to calculate the monthly housing assistance payment for the family beginning at the effective date of the family's first regular reexamination on or after the effective date of the increase in the payment standard amount.

Reason Waived: The PHAs were authorized to increase the payment standards for families at any time after the effective date of the payment standard increase, rather than waiting for the next regular reexamination. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for earlier implementation of increased payment standards for families helped ensure that families living in rental markets with ongoing fluctuations and disruptions were not adversely impacted by rapidly increasing rents.

Granted by: Dominique Blom, General Deputy Assistant for Public and Indian Housing.

Contact: Tesia Anyanaso, Office of Field Operations/Coordination and Compliance Division, Office of Public and Indian Housing 451 Seventh Street SW, Suite 3180, Washington, DC 20410, telephone (202) 402-7026 or email to PIH_Expedited_Waivers@hud.gov.

Code | PHAs | Waiver signed
AL008 | Selma Housing Authority | 2/22/2024
CA007 | County of Sacramento Housing Authority | 1/31/2024
CA033 | County of Monterey Housing Authority | 1/31/2024
CA055 | Housing Authority of the City of Vallejo | 3/14/2024
FL032 | Ocala Housing Authority | 1/3/2024
FL068 | Housing Authority of the City of Homestead | 1/9/2024
IA045 | Davenport Housing Commission | 1/3/2024
IL124 | Housing Authority of East Peoria | 2/22/2024
IN004 | Delaware County Housing Authority | 1/9/2024
IN005 | Housing Authority of the City of Muncie | 2/22/2024
IN006 | Housing Authority of the City of Anderson | 2/9/2024
IN009 | Housing Authority of the City of Richmond | 2/9/2024
IN011 | Housing Authority of the City of Gary | 1/31/2024
IN019 | Housing Authority of the City of Michigan City | 3/14/2024
IN020 | Housing Authority of the City of Mishawaka | 1/9/2024
IN025 | Housing Authority of the City of Charlestown | 2/9/2024
IN047 | Housing Authority of the City of Crawfordsvil | 1/3/2024
IN050 | New Castle Housing Authority | 1/31/2024
IN078 | Housing Authority of the City of Greensburg | 1/31/2024
IN086 | Housing Authority of the City of Union City | 1/9/2024
IN091 | Housing Authority of the City of Peru | 2/22/2024
IN901 | Indiana Housing and Community Development | 1/3/2024
MO227 | Housing Assistance Prog of St Charles County | 1/31/2024
NE181 | Goldenrod Regional Housing Agency | 1/9/2024
NH009 | Lebanon Housing Authority | 3/6/2024
NY009 | Albany Housing Authority | 3/6/2024
NY406 | Village of Fairport | 2/22/2024
OH029 | Ashtabula Metropolitan Housing Authority | 1/31/2024
PA047 | Wilkes Barre Housing Authority | 1/31/2024
RQ013 | Municipality of Trujillo Alto | 3/14/2024
SC028 | Housing Authority of Georgetown | 3/6/2024
TN026 | Etowah Housing Authority | 2/22/2024
TN054 | Cleveland Housing Authority | 1/3/2024
TN062 | Dayton Housing Authority | 1/31/2024
TX512 | Deep East Texas Council of Governments | 1/31/2024
UT028 | Roosevelt City Housing Authority | 2/22/2024
WI206 | Door County Housing Authority | 1/31/2024

• Regulation: 24 CFR 982.503(b)(1)(iv) Exception Payment Standards up to 120% of the SAFMRs for PHAs that are in mandatory SAFMR area or Opt-in PHAs.

Project/Activity: Notice PIH 2023-29 Extension of Certain Regulatory Waivers for the Housing Choice Voucher (including Mainstream) Program and Streamlined Review Process.

Nature of Requirement: At the request of a PHA administering the HCV program under Small Area FMRs, HUD may approve an exception payment standard for a Small Area FMR area above the 110 percent of the published FMR in accordance with conditions set forth by Notice in the Federal Register.

Reason Waived: The PHAs were authorized to adopt a payment standard above the basic range, up to 120 percent of the Small Area FMR. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for an exception payment standard up to 120 percent of the Small Area FMR helped ensure that families living in rental markets with ongoing fluctuations and disruptions were not adversely impacted by rapidly increasing rents and were able to find rental units with their voucher.

Granted by: Dominique Blom, General Deputy Assistant for Public and Indian Housing.

Contact: Tesia Anyanaso, Office of Field Operations/Coordination and Compliance Division, Office of Public and Indian Housing 451 Seventh Street SW, Suite 3180, Washington, DC 20410, telephone (202) 402-7026 or email to PIH_Expedited_Waivers@hud.gov.

Public Housing Authorities (PHAs)
Code | PHAs | Waiver signed
AZ038 | Chandler Housing Authority | 2/9/2024
CA007 | County of Sacramento Housing Authority | 1/31/2024
CA033 | County of Monterey Housing Authority | 1/31/2024
IN011 | Housing Authority of the City of Gary | 1/31/2024
IN086 | Housing Authority of the City of Union City | 1/9/2024
IN901 | Indiana Housing and Community Development | 1/3/2024
PA015 | Fayette County Housing Authority | 1/31/2024
TN054 | Cleveland Housing Authority | 1/3/2024
UT016 | Housing Authority of Carbon County | 1/9/2024

• Regulation: 24 CFR 982.503(c)(1)-(2) and (4)-(5) Exception Payment Standards up to 120% of the FMR.

Project/Activity: Notice PIH 2023-29 Extension of Certain Regulatory Waivers for the Housing Choice Voucher (including Mainstream) Program and Streamlined Review Process.

Nature of Requirement: PHAs may request an exception payment standard of up to 120 percent of the applicable Fair Market Rent and apply it throughout their jurisdiction.

Reason Waived: The PHAs were authorized to adopt a payment standard above the basic range, up to 120 percent of the Fair Market Rent, and apply it throughout their jurisdiction. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for an exception payment standard up to 120 percent of the Small Area FMR helped ensure that families living in rental markets with ongoing fluctuations and disruptions were not adversely impacted by rapidly increasing rents and were able to find rental units with their voucher.

Granted by: Dominique Blom, General Deputy Assistant for Public and Indian Housing.

Contact: Tesia Anyanaso, Office of Field Operations/Coordination and Compliance Division, Office of Public and Indian Housing 451 Seventh Street SW, Suite 3180, Washington, DC 20410, telephone (202) 402-7026 or email to PIH_Expedited_Waivers@hud.gov.

Code | PHAs | Waiver signed
AL008 | Selma Housing Authority | 2/22/2024
AR020 | Little River County Housing Authority | 1/31/2024
AR197 | White River Regional Housing Authority | 1/31/2024
CA033 | County of Monterey Housing Authority | 1/31/2024
CA055 | Housing Authority of the City of Vallejo | 3/14/2024
CA086 | County of Humboldt Housing Authority | 3/14/2024
CA144 | Lake County Housing Commission | 1/3/2024
FL017 | Housing Authority of the City of Miami Beach | 1/3/2024
FL032 | Ocala Housing Authority | 1/3/2024
FL049 | North Central Florida Regional County | 3/14/2024
FL068 | Housing Authority of the City of Homestead | 1/9/2024
IA045 | Davenport Housing Commission | 1/3/2024
IL082 | Housing Authority of the County of Jodaviess | 3/14/2024
IN004 | Delaware County Housing Authority | 1/9/2024
IN005 | Housing Authority of the City of Muncie | 2/22/2024
IN006 | Housing Authority of the City of Anderson | 2/9/2024
IN009 | Housing Authority of the City of Richmond | 2/9/2024
IN019 | Housing Authority of the City of Michigan City | 3/14/2024
IN020 | Housing Authority of the City of Mishawaka | 1/9/2024
IN025 | Housing Authority of the City of Charlestown | 2/9/2024
IN047 | Housing Authority of the City of Crawfordsvil | 1/3/2024
IN050 | New Castle Housing Authority | 1/31/2024
IN086 | Housing Authority of the City of Union City | 1/9/2024
KY026 | Housing Authority of Glasgow | 3/14/2024
KY157 | Housing Authority of Floyd County | 3/6/2024
KY161 | Appalachian Foothills Housing Agency Inc | 3/14/2024
MI880 | Housing Services Mid-Michigan | 2/22/2024
MO065 | Chillicothe Housing Authority | 3/6/2024
MO212 | Ripley County Public Housing Agency | 1/31/2024
MO227 | Housing Assistance Prog of St Charles County | 1/31/2024
MT006 | Richland County Housing Authority | 3/6/2024
NE181 | Goldenrod Regional Housing Agency | 1/9/2024
NH009 | Lebanon Housing Authority | 3/6/2024
NY001 | Syracuse Housing Authority | 3/6/2024
NY009 | Albany Housing Authority | 3/6/2024
NY406 | Village of Fairport | 2/22/2024
OH001 | Columbus Metropolitan Housing Authority | 2/9/2024
OH029 | Ashtabula Metropolitan Housing Authority | 1/31/2024
PA038 | Lackawanna County Housing Authority | 1/31/2024
PA047 | Wilkes Barre Housing Authority | 1/31/2024
RQ013 | Municipality of Trujillo Alto | 2/9/2024
SC002 | Housing Authority of the City of Columbia | 1/31/2024
SC028 | Housing Authority of Georgetown | 3/6/2024
TN006 | Kingsport Housing and Redevelopment Authority | 1/9/2024
TN026 | Etowah Housing Authority | 2/22/2024
TN054 | Cleveland Housing Authority | 1/3/2024
TN062 | Dayton Housing Authority | 1/31/2024
TX512 | Deep East Texas Council of Governments | 1/31/2024
WI048 | New London Housing Authority | 1/9/2024
WI206 | Door County Housing Authority | 1/31/2024
WV005 | Housing Authority of the City of Parkersburg | 2/9/2024

• Regulation: 24 CFR 982.503(b)(1)(iii) Exception Payment Standards up to 120% for PHAs that are currently approved for exception payment standard SAFMRs.

Project/Activity: Notice PIH 2023-29 Extension of Certain Regulatory Waivers for the Housing Choice Voucher (including Mainstream) Program and Streamlined Review Process.

Nature of Requirement: PHAs may request an extension of expedited waiver(s) to allow for establishment of payment standards up to 120 percent of its applicable FY2024 SAFMRs.

Reason Waived: The PHAs were authorized to adopt a payment standard above the basic range, up to 120 percent of their approved Small Area FMR exception payment standards. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for an exception payment standard up to 120 percent of the Small Area FMR exception payment standards helped ensure that families living in rental markets with ongoing fluctuations and disruptions were not adversely impacted by rapidly increasing rents and were able to find rental units with their voucher.

Granted by: Dominique Blom, General Deputy Assistant for Public and Indian Housing.

Contact: Tesia Anyanaso, Office of Field Operations/Coordination and Compliance Division, Office of Public and Indian Housing 451 Seventh Street SW, Suite 3180, Washington, DC 20410, telephone (202) 402-7026 or email to PIH_Expedited_Waivers@hud.gov.

Code | PHAs | Waiver signed
CA033 | County of Monterey Housing Authority | 1/31/2024
FL021 | Pahokee Housing Authority | 2/9/2024
IN086 | Housing Authority of the City of Union City | 1/9/2024
IN901 | Indiana Housing and Community Development | 1/3/2024
KY040 | Housing Authority of Mayfield | 1/31/2024
MO227 | Housing Assistance Prog of St Charles County | 1/31/2024
TN006 | Kingsport Housing and Redevelopment | 1/9/2024
UT016 | Housing Authority of Carbon County | 1/9/2024

[FR Doc. 2024-23213 Filed 10-7-24; 8:45 am]

BILLING CODE 4210-67-P